DEPARTMENT OF ENERGY

Federal Energy Regulatory Commission

[Project No. 12632-000]

East Texas Electric Cooperative, Inc.; Notice of Intent To File License Application, Filing of Pre-Application Document, and Approving Use of the Alternative Licensing Procedures

February 19, 2008.

a. Type of Filing: Notice of Intent to File License Application and Request to Use the Alternative Licensing Procedures.

b. Project No.: 12632-000.

c. Dated Filed: December 21, 2007.

d. Submitted by: East Texas Electric Cooperative, Inc. (Cooperative).

e. Name of Project: Lake Livingston Hydroelectric Project.

f. Location: On the Trinity River, in San Jacinto, Polk, Trinity, and Walker Counties, Texas. No federal lands are occupied by the project works or located within the project boundary.

g. Filed Pursuant to: 18 CFR 5.3 of the Commission's regulations.

h. Potential Applicant Contact: Edd Hargett, East Texas Electric Cooperative, Inc., 2905 Westward Drive, P.O. Box 631623, Nacogdoches, TX 75963; (936) 560-9532; e-mail—eddh@gtpower.com.

i. FERC Contact: Sarah Florentino at (202) 502-6863; or e-mail at sarah.florentino@ferc.gov.

j. The Cooperative filed its request to use the Alternative Licensing Procedures on December 21, 2007. The Cooperative provided public notice of its request on December 21, 2007. In a letter dated February 19, 2008, the Director of the Office of Energy Projects approved the Cooperative's request to use the Alternative Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Texas State Historic Preservation Officer, as required by section 106, National Historical Preservation Act, and the implementing regulations of the Advisory Council on Historic Preservation at 36 CFR 800.2.

l. With this notice, we are designating the Cooperative as the Commission's non-federal representative for carrying out informal consultation, pursuant to section 106 of the National Historic Preservation Act.

m. The Cooperative filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, of for TTY, (202) 502-8659. A copy is also available for inspection and reproduction at the following address: Sam Houston Electric Cooperative, 1157 East Church Street, Livingston, Texas 77351; (936) 327-5711.

o. Register online at http://ferc.gov/esubscribenow.htm to be notified via e-mail of new filing and issuances related to this or other pending projects. For assistance, contact FERC Online Support.

Nathaniel J. Davis, Sr.,
Deputy Secretary.

[FR Doc. E8-3436 Filed 2-22-08; 8:45 am]

BILLING CODE 6717-01-P